DEPARTMENT OF COMMERCE

Foreign-Trade Zones Board

[B-26-2017]

Foreign-Trade Zone (FTZ) 80—San Antonio, Texas; Authorization of Production Activity; DPT Laboratories, Ltd. (Pharmaceutical Products); San Antonio, Texas

On April 17, 2017, DPT Laboratories, Ltd., submitted a notification of proposed production activity to the FTZ Board within Subzone 80F, in San Antonio, Texas.

The notification was processed in accordance with the regulations of the FTZ Board (15 CFR part 400), including notice in the Federal Register inviting public comment (82 FR 26434, June 7, 2017). On August 15, 2017, the applicant was notified of the FTZ Board's decision that no further review of the activity is warranted at this time. The production activity described in the notification was authorized, subject to the FTZ Act and the FTZ Board's regulations, including Section 400.14.

Dated: August 24, 2017.
Andrew McGilvray,
Executive Secretary.

[FR Doc. 2017-18436 Filed 8-29-17; 8:45 am]

BILLING CODE 3510-DS-P